DEPARTMENT OF THE INTERIOR

Bureau of Land Management

[14XL.LLID9570000.L14200000.BJ0000.241A.4500063981]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat representing the dependent resurvey of portions of the Fifth Standard Parallel North (north boundary), the Fifth Guide Meridian East (east boundary), and subdivisional lines, and the subdivision of sections 1 and 12, Township 21 North, Range 22 East, of the Boise Meridian, Idaho, Group Number 1387, was accepted February 12, 2014.The plat representing the dependent resurvey of portions of the west boundary and subdivisional lines, and the subdivision of section 30, Township 2 North, Range 43 East, of the Boise Meridian, Idaho, Group Number 1389, was accepted March 17, 2014.

The plat representing the dependent resurvey of a portion of the subdivisional lines, and the subdivision of sections 9 and 15, Township 7 South, Range 3 West, of the Boise Meridian, Idaho, Group Number 1375, was accepted March 18, 2014.

The plat representing the dependent resurvey of portions of the south boundary of the subdivisional lines, and the subdivision of section 34, and the metes-and-bounds survey of a portion of the as-built centerline of Mud Flat Road in section 34, Township 9 South, Range 2 West, of the Boise Meridian, Idaho, Group Number 1376, was accepted March 18, 2014.

The plat representing the dependent resurvey of portions of the north and west boundaries and subdivisional lines, and the subdivision of section 7, and the metes-and-bounds survey of a portion of the boundary of the North Fork Owyhee Wilderness Area, Township 9 South, Range 4 West, of the Boise Meridian, Idaho, Group Number 1377, was accepted March 18, 2014.

The supplemental plat prepared to show new lots 18, 19, and 20, in sec. 33, T. 29 N., R. 8 E., Boise Meridian, Idaho, Group Number 1414, was accepted March 19, 2014. The plat representing the dependent resurvey of portions of the west boundary and subdivisional lines, and the subdivision of section 7, Township 39 North, Range 2 West, of the Boise Meridian, Idaho, Group Number 1388, was accepted March 20, 2014. This survey was executed at the request of the Bureau of Indian Affairs to meet their administrative needs. The lands surveyed are:

The plat representing the dependent resurvey of portions of the west boundary, subdivisional lines, and subdivision of section 2, and the subdivision of sections 6 and 7, and the further subdivision of section 2, Township 34 North, Range 1 West, of the Boise Meridian, Idaho, Group Number 1385, was accepted February 5, 2014.

These surveys were executed at the request of the National Park Service to meet their administrative needs. The lands surveyed are:

The plat representing the dependent resurvey of portions of the south boundary, subdivisional lines, Tracts C and G in section 32, and Tract H in sections 32 and 33, and the subdivision of section 29, the metes-and-bounds survey of Tract 39, and the metes-and-bounds survey of the southerly side of a road in Tract H in section 33, Township 8 South, Range 19 East, of the Boise Meridian, Idaho, Group Number 1365, was accepted February 4, 2014.

Dated: April 10, 2014.
Stanley G. French,
Chief Cadastral Surveyor for Idaho.

[FR Doc. 2014-08595 Filed 4-15-14; 8:45 am]

BILLING CODE 4310-GG-P